COMMISSION ON CIVIL RIGHTS

Notice of Public Meeting of the Arizona Advisory Committee; Correction

AGENCY: Commission on Civil Rights.

ACTION: Notice; change type of meeting and new start time.

SUMMARY: The Commission on Civil Rights published a notice in the Federal Register on Wednesday, May 3, 2023, concerning a meeting of the Arizona Advisory Committee. The meeting type and new starting time has since changed.

FOR FURTHER INFORMATION CONTACT: Kayla Fajota, kfajota@usccr.gov, (312) 353-8311.

Correction: In the Federal Register on Wednesday, May 3, 2023, in FR Document Number 2023-09310, on page 27859, first and second columns, to change the meeting type from a virtual briefing to a planning meeting.

In addition, the link to join will remain the same: https://www.zoomgov.com/j/1612316896?pwd=bkNaOHZIdzhxZDhXSDJNSk5VZEJtdz09.

New Start Time: 1:00 p.m.-2:30 p.m. Arizona Time.

Agenda

• Welcome and Roll Call

• Announcements and Updates

• Approval of Prior Minutes

• Panel Planning: Panelists for Briefing #1

• Panel Planning: Potential In-person Briefing

• Public Comment

• Adjournment

Dated: May 30, 2023.
David Mussatt,
Supervisory Chief, Regional Programs Unit.

[FR Doc. 2023-11825 Filed 6-9-23; 8:45 am]

BILLING CODE 6335-01-P